SMALL BUSINESS ADMINISTRATION

Praesidian Capital Opportunity Fund III, LP License No. 02/02-0647; Notice Seeking Exemption Under Section 312 of the Small Business Investment Act, Conflicts of Interest

Notice is hereby given that Praesidian Capital Opportunity Fund III, LP, 419 Park Avenue South, New York, NY 10016, a Federal Licensee under the Small Business Investment Act of 1958, as amended (“the Act”), in connection with the financing of a small concern, has sought an exemption under Section 312 of the Act and Section 107.730, Financings which Constitute Conflicts of Interest, of the Small Business Administration Rules and Regulations (13 CFR 107.730). Praesidian Capital Opportunity Fund III, LP proposes to provide debt financing to JPB Marketing Enterprises, Inc. d/b/a DisplayWorks (“DW”). The financing is contemplated for recapitalization purposes following the consummation of an acquisition.

The financing is brought within the purview of § 107.730(a)(4) of the Regulations because Praesidian Capital Investors II, LP, Associate of Praesidian Capital Opportunity Fund III, LP, holds a debt investment and warrant position in DW, both of which will be extinguished as a result of the recapitalization. Therefore the transaction is considered as financing to discharge an obligation to an Associate, requiring prior written exemption from the Small Business Administration.

Notice is hereby given that any interested person may submit written comments on the transaction within 15 days of the date of this publication to the Associate Administrator for Investment, U.S. Small Business Administration, 409 Third Street, SW., Washington, DC 20416.

Dated: October 19, 2011.
Sean J. Greene,
Associate Administrator for Investment.

[FR Doc. 2011-27819 Filed 10-27-11; 8:45 am]

BILLING CODE M